DEPARTMENT OF HEALTH AND HUMAN SERVICES

Administration for Children and Families

Proposed Information Collection Activity; Comment Request

Proposed Projects

Title: Required Data Elements for Paternity Establishment Affidavits.

OMB No. 0970-0171.

Description: The Personal Responsibility and Work Opportunity Reconciliation Act of 1996 required the Secretary of the Department of Health and Human Services to specify the minimum data elements of an affidavit to be used for the voluntary acknowledgment of paternity. States must enact laws requiring the development and use of the affidavit and to give full faith and credit to affidavits signed in any other State according to its procedures.

Respondents: State birth record agencies and State Child Support Offices.

Annual Burden Estimates
Instrument | Number of respondents | Number of responses per respondent | Average burden hours per response | Total burden hours
Affidavit | 2,000,000 | .2243 | .166 | 74,468
Estimated Total Annual Burden Hours |  |  |  | 74,468

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447. Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 12, 2001.
Bob Sargis,
Reports Clearance Officer.

[FR Doc. 01-3890 Filed 2-15-01; 8:45 am]

BILLING CODE 4184-01-M